DEPARTMENT OF THE INTERIOR

Fish and Wildlife Service

Receipt of a Permit Application (Sultan & Kahn Amendment # 1) for Incidental Take of the Bone Cave Harvestman

AGENCY: Fish and Wildlife Service, Interior.

ACTION: Notice of availability.

SUMMARY: Sultan & Kahn Partnership, Ltd., (Applicant) has requested an amendment to an incidental take permit issued March 9, 2001 by the U.S. Fish and Wildlife Service (Service), pursuant to section 10(a) of the Endangered Species Act (Act). The Applicant has been assigned permit amendment number TE-035525-1. The requested amendment would authorize the incidental take of the endangered Bone Cave harvestman (Texella reyesi) which would occur as a result of the construction of three commercial developments on Lots 2, 3, and 5. This construction is in addition to the originally permitted and authorized construction on Lots 1 and 4 at R.R. 620 and Great Oaks Drive, Round Rock, Williamson County, Texas.

DATES: Written comments on the application should be received within 60 days of the date of this publication.

ADDRESSES: Persons wishing to review the application may obtain a copy by writing to the Regional Director, U.S. Fish and Wildlife Service, P.O. Box 1306, Room 4201, Albuquerque, New Mexico 87103. Persons wishing to review the EA/HCP may obtain a copy by contacting Sybil Vosler, Ecological Services Field Office, 10711 Burnet Road, Suite 200, Austin, Texas 78758 (512/490-0063). Documents will be available for public inspection by written request, by appointment only, during normal business hours (8 am to 4:30 pm) at the U.S. Fish and Wildlife Service, Austin, Texas. Written data or comments concerning the application and EA/HCP should be submitted to the Field Supervisor, Ecological Services Field Office, Austin, Texas at the above address. Please refer to permit number TE-035525-1 when submitting comments.

FOR FURTHER INFORMATION CONTACT: Sybil Vosler at the above U.S. Fish and Wildlife Service, Austin Office.

SUPPLEMENTARY INFORMATION: Section 9 of the Act prohibits the “taking” of endangered species such as the Bone Cave harvestman. However, the Service, under limited circumstances, may issue permits to take endangered wildlife species incidental to, and not the purpose of, otherwise lawful activities. Regulations governing permits for endangered species are at 50 CFR 17.22.

The Service has prepared the Environmental Assessment/Habitat Conservation Plan (EA/HCP) for the incidental take application. A determination of jeopardy to the species or a Finding of No Significant Impact (FONSI) will not be made until at least 60 days from the date of publication of this notice. This notice is provided pursuant to section 10(c) of the Act and National Environmental Policy Act regulations (40 CFR 1506.6).

Applicant: Sultan & Kahn Partnership, Ltd., plans to construct three commercial establishments on portions of Lots 2, 3, and 5 in addition to current (originally permitted) construction on Lots 1 and 4 at R.R. 620 and Great Oaks Drive, Round Rock, Williamson County, Texas. This action will indirectly impact the habitat of the Bone Cave harvestman. The development will eliminate approximately 3.53 acres of habitat which supports the Beck Bat Cave ecosystem resulting in degradation of habitat and take of the Bone Cave harvestmen. The applicant proposes to compensate for this incidental take of Bone Cave harvestmen by providing mitigation funding sufficient to purchase, preserve, and maintain one cave (at least 70 acres in size) containing habitat for the Bone Cave harvestman; implementing a fire ant control program in the vicinity of Beck Bat Cave; Planting a 30 foot native vegetation buffer; and restricting the use of the lots to those that do not have the potential to pollute the underlying karst features.

Bryan Arroyo,
Acting Regional Director, Region 2.

[FR Doc. 02-1974 Filed 1-25-02; 8:45 am]

BILLING CODE 4510-55-P